DEPARTMENT OF JUSTICE

Notice of Lodging of Consent Decree; Under the Clean Water Act, the Oil Pollution Act of 1990 and State of California Law

Notice is hereby given that on September 23, 2002, a proposed consent decree in United States and State of California v. ExxonMobil Oil Corp., Civil Action No. 2:02cv07408 MMM (MANx), was lodged with the United States District Court for the Central District of California.

The consent decree resolves claims against defendant ExxonMobil Oil Corporation arising from a spill from an oil pipeline in Southern California, operated by Mobil Oil Corporation, the predecessor of defendant ExxonMobil Oil Corporation, the predecessor of defendant ExxonMobil Oil Corporation (“ExxonMobil”). The proposed complaint seeks recovery by the United States of natural resource damages and civil penalties under Section 311 of the CWA, 33 U.S.C. 1321, and Sections 1002 and 1006 of OPA, 33 U.S.C. 2702, 2706, and recovery by the State of California of natural resource damages, civil penalties, and other damages under State of California law. The proposed consent decree resolves those claims in consideration of a total payment by ExxonMobil of $4.7 million, consisting of $3.45 million in natural resource damages, damage assessment costs, and planning and oversight costs; $600,000 in federal civil penalties, and $650,000 in state civil penalties and damages.

The Department of Justice will receive for a period of thirty (30) days from the date of this publication comments relating to the consent decree. Comments should be addressed to the Assistant Attorney General, Environment and Natural Resources Division, P.O. Box 7611, U.S. Department of Justice, Washington, D.C. 20044-7611, and should refer to United States and State of California v. ExxonMobil Oil Corp., D.J. Ref. No. 90-5-1-1-06971.

The consent decree may be examined at the offices of U.S. EPA Region 9, 75 Hawthorne Street, San Francisco, California 94105. A copy of the consent decree may also be obtained by mail from the Consent Decree Library, P.O. Box 7611, U.S. Department of Justice, Washington, DC 20044-7611, or by faxing a request to Tonia Fleetwood, fax no. (202) 514-0097, phone confirmation number (202) 514-1547. In requesting a copy, please enclose a check in the amount of $7.50 (25 cents per page reproduction cost) payable to the U.S. Treasury.

Ellen M. Mahan,
Assistant Chief, Environmental Enforcement Section, Environment and Natural Resources Division.

[FR Doc. 02-26504 Filed 10-17-02; 8:45 am]

BILLING CODE 4410-15-M